DEPARTMENT OF VETERANS AFFAIRS

[OMB Control No. 2900-NEW]

Agency Information Collection Activity: Veterans Health Administration (VHA) Office of Community Care (OCC) Contractor Training Program Assessment Survey

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before August 26, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Veterans Health Administration (VHA) Office of Community Care (OCC) Contractor Training Program Assessment Survey.

OMB Control Number: 2900-NEW.

Type of Review: New collection.

Abstract: The legal authority for this data collection is found under 38 U.S.C., Part I, Chapter 5, Section 527, authorizing the collection of data that will allow measurement and evaluation of the Department of Veterans Affairs Programs, the goal of which is improved health care for Veterans. Further, pursuant to Section 122 of the MISSION Act of 2018, the VHA Office of Community Care (OCC) will use this data collection to improve its training program and report to Congress regarding the training program's effectiveness.

Section 122 of the MISSION Act of 2018 requires VA to develop and conduct a training program for VA employees and contractors on how to administer non-Department health care programs, reimbursement for non-Department emergency room care, and the management of prescriptions for opioids, as established under section 131. It also requires the VA to evaluate and report on the program annually. As part of this effort, the VHA OCC has developed a survey to assess its eLearning training modules with Patient-Centered Community Care (PC3) and Community Care Network contractors. The purpose of the survey is to evaluate and report the effectiveness of this training program for contractors. The results of the survey will allow OCC to refine and improve the various training modalities and associated materials for the most effective training program and provide an annual report to Congress.

Affected Public: Individuals and households.

Estimated Annual Burden: 3,833 hours.

Estimated Average Burden per Respondent: 10 minutes.

Frequency of Response: One annually.

Estimated Number of Respondents: 23,000.

By direction of the Secretary.
Danny S. Green,
Interim VA Clearance Officer, Office of Quality, Performance and Risk (OQPR), Department of Veterans Affairs.

[FR Doc. 2019-13665 Filed 6-26-19; 8:45 am]

BILLING CODE 8320-01-P